DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Transgenic Mouse Model for Lupus and Other Autoimmune Diseases

Description of Technology: The inventors have developed a series of transgenic mice that overexpress Toll-Like Receptor 7 (TLR7) at different levels. Overexpression of TLR7 in these mice results in a lupus-like syndrome, the intensity of which correlates with the level of overexpression. As the pathology in these mice results from the overexpression of a single gene, it represents a superior model for lupus and other autoimmune diseases compared to other existing mouse models that dysregulate multiple genes to achieve the same pathologic syndrome.

Two strains are currently available. The TLR7.Tg1 strain overexpresses TLR7 at approximately 16 times the wild-type level. The TLR7.Tg6 strain overexpresses TLR7 at approximately 4 times the level of a wild-type mouse; additionally, the transgene for this strain is located on the Y chromosome, which would be advantageous for cross-breeding to other mouse lines.

Inventors: Jonathan Deane et al. (NIAID).

Related Publication: P. Pisitkun et al. Autoreactive B cell responses to RNA-related antigens due to TLR7 gene duplication. Science 2006 Jun 16;312(5780):1669-1672.

Patent Status: HHS Reference No. E-128-2007/0—Research Tool.

Licensing Status: This technology is available for nonexclusive licensing.

Licensing Contact: Tara L. Kirby, Ph.D.; 301/435-4426; tarak@mail.nih.gov.

Dysphagia Rehabilitation (Swallowing Recovery): Vibro-Tactile Stimulation Device and Method for Motor Control Recovery

Description of Technology: Available for licensing and/or commercial development under a scientific collaboration, are device and method patents for volitional swallowing with a substitute sensory system. The inventions are potentially applicable to a wide variety of indications, including recovery post-stroke and post ex-tubation for example, after coronary bypass surgery. The device is being tested in dysphagic patients in two, on-going clinical trials at the National Institutes of Health. A collaborator or licensee is needed to support further clinical trials, validation studies, and final package development.

Device: For the device patent, upon activation a vibrator moves and vibrates the larynx. Patients can initiate sensory stimulation immediately prior to the patient's own initiation of a swallow. Specifically, the device allows the patient to coordinate muscular movement with a button press to permit volitional swallowing. The device can also include a movement sensor for monitoring pressure on the patient's larynx and a swallowing detector. The swallowing detector includes a piezoelectric stretch receptor and a stimulator, coupled to the movement sensor, for applying pressure to a patient's larynx prior to swallowing. The device can also be used to automatically trigger and retrain swallowing to prevent aspiration pneumonia post stroke or post extubation.

Method: For the method patent, the instant device has also been claimed in a patent application asserting rights for improving voluntary initiation of swallowing in neurologically impaired patients. Swallowing recovery alleviates the risk of aspiration by augmenting volitional control using a simultaneous motor act (e.g., such as pressing a button to indicate when they are ready to swallow). It is believed that such motor training also initiates sensory stimulation, immediately preceding the motor act, and that such sensory stimulation enhances excitation of a central pattern generator in the brain stem that augments the volitional control of swallowing. This principle is applicable to other neurological impairments; their associated enhancement of voluntary motor act control by the patient initiating immediately concurrent and related sensory stimulations. Neurological impairments that are contemplated include reflex actions involving interactions between afferent and efferent paths (at the spinal cord or in the brain stem) as well as higher order interactions. This invention includes methods for treating neurologically impaired humans using devices such as those that produce vibratory stimulation, pressure stimulation, auditory stimulation, temperature stimulation, visual stimulation, olfactory stimulation, taste stimulation, or a combination of these. Combinations of two or more stimulation types are particularly useful. For example, the combined use of button press training with simultaneous vibratory and pressure stimulation on the neck to augment feedback to the brain stem swallowing centers to facilitate voluntary control of swallowing (thought to be largely an involuntary brain stem function) is particularly useful for treating dysphagic patients. Alternatively automatic cycles of stimulation at intervals during the day can be used for intensive retraining of swallowing post stroke or post-extubation to prevent aspiration.

Inventors: Christy Ludlow (NINDS), Christopher Poletto (NINDS), Ianessa Humbert (NINDS), Newlin Morgan (NIMH).

Patent Status: PCT Application No. PCT/US2006/025535 (HHS Reference No. E-251-2005/1-PCT-02).

Licensing Contact: Michael A. Shmilovich, Esq.; 301/435-5019; shmilovm@mail.nih.gov.

Collaborative Research Opportunity: For research and development collaborations with inventors, contact Heather Gunas at 301-435-3944 or e-mail at gunash@mail.nih.gov.

Dated: July 19, 2007.
Steven M. Ferguson,
Director, Division of Technology Development and Transfer, Office of Technology Transfer, National Institutes of Health.

5

[FR Doc. E7-14501 Filed 7-26-07; 8:45 am]

BILLING CODE 4140-01-P